DEPARTMENT OF ENERGY

Federal Energy Regulatory Commission

[Docket No. CP09-465-002]

Notice of Filing; Northern Natural Gas Company

Take notice that on September 28, 2017, the Kansas Corporation Commission (KCC) made a filing styled as a Motion to Show Cause. In the filing, KCC alleges that Northern Natural Gas Company (Northern) has failed to comply with the Commission's June 2, 2010 Order regarding Northern's buffer zone around the Cunningham storage field in Pratt and Kingman Counties, Kansas.¹ KCC's filing is in response to an April 26-27, 2017 release of natural gas from a well within Northern's buffer zone around the Cunningham storage field. KCC asserts that Northern has failed to comply with the Commission's directive to halt the migration of gas from its Cunningham storage field in the Viola and Simpson formations. Specifically, KCC posits that Northern has failed to obtain control of wells within the buffer zone and that such wells are not properly maintained to protect the integrity of the storage field and prevent further migration of storage gas.

¹ Northern Natural Gas Company, 131 FERC 61,209 (2010).

The filing may also be viewed on the web at http://www.ferc.gov using the eLibrary link. Enter the docket number excluding the last three digits in the docket number field to access the document. For assistance, please contact FERC Online Support at FERCOnlineSupport@ferc.gov or toll free at (866) 208-3676, or TTY, contact (202) 502-8659.

Any person wishing to obtain legal status by becoming a party to this proceeding should, on or before the comment date listed below, file with the Federal Energy Regulatory Commission, 888 First Street NE., Washington, DC 20426, a motion to intervene in accordance with the requirements of the Commission's Rules of Practice and Procedure (18 CFR 385.214 or 385.211) and the Regulations under the Natural Gas Act (18 CFR 157.10).

The Commission strongly encourages electronic filings of comments, protests and interventions in lieu of paper using the eFiling link at http://www.ferc.gov. Persons unable to file electronically should submit original and five copies of the protest or intervention to the Federal Energy Regulatory Commission, 888 First Street NE., Washington, DC 20426.

Comment Date: 5:00 p.m. Eastern Time on November 28, 2017.

Dated: November 7, 2017.
Kimberly D. Bose,
Secretary.

[FR Doc. 2017-24582 Filed 11-13-17; 8:45 am]

BILLING CODE 6717-01-P